DEPARTMENT OF DEFENSE

Office of the Secretary

[Transmittal No. 20-15]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-15 with attached Policy Justification and Sensitivity of Technology.

Dated: April 13, 2020.
Aaron T. Siegel,
Alternate OSD Federal Register Liaison Officer, Department of Defense.

BIILING CODE 5001-06-P

BIILING CODE 5001-06-C

Transmittal No. 20-15

Notice of Proposed Issuance of Letter of Offer Pursuant to Section 36(b)(1) of the Arms Export Control Act, as amended

(i) Prospective Purchaser: Republic of Korea

(ii) Total Estimated Value:

Major Defense Equipment* | $0 million
Other | $194 million
TOTAL | $194 million

(iii) Description and Quantity or Quantities of Articles or Services under Consideration for Purchase: The Republic of Korea has requested to upgrade its F-16 Block 32 aircraft with Mode 5 Identification Friend or Foe (IFF) and Link 16 Tactical Datalink (TDL).

Major Defense Equipment (MDE):

None

Non-MDE:

Included are ARC-238 radios; AN/APX-126 Combined Interrogator Transponders; Joint Mission Planning (JMPS) upgrade; KY-58M secure voice module; Simple Key Loader (SKL) crypto fill devices; Precision Measurement Equipment Laboratory (PMEL); aircraft ferry support; training; Computer Program Identification Number System (CPINS); flight manuals; flight tests; integration support and test equipment; U.S. Government and contractor, engineering, technical and logistics support services; sustainment and other support equipment; and other related elements of logistical and program support.

(iv) Military Department: Air Force (KS-D-QGD)

(v) Prior Related Cases, if any: KS-D-QBY

(vi) Sales Commission, Fee, etc., Paid, Offered, or Agreed to be Paid: None

(vii) Sensitivity of Technology Contained in the Defense Article or Defense Services Proposed to be Sold: See Attached Annex

(viii) Date Report Delivered to Congress:

* As defined in Section 47(6) of the Arms Export Control Act.

POLICY JUSTIFICATION

Korea —F-16 Identification Friend or Foe (IFF) & Link 16 Upgrades

The Republic of Korea has requested to upgrade its F-16 Block 32 aircraft with Mode 5 Identification Friend or Foe (IFF) and Link 16 Tactical Datalink (TDL). Included are ARC-238 radios; AN/APX-126 Combined Interrogator Transponders; Joint Mission Planning (JMPS) upgrade; KY-58M secure voice module; Simple Key Loader (SKL) crypto fill devices; Precision Measurement Equipment Laboratory (PMEL); aircraft ferry support; training; Computer Program Identification Number System (CPINS); flight manuals; flight tests; integration support and test equipment; U.S. Government and contractor, engineering, technical and logistics support services; sustainment and other support equipment; and other related elements of logistical and program support. The total estimated cost is $194 million.

This proposed sale will support the foreign policy and national security objectives of the United States by meeting legitimate security and defense needs of one of the U.S.'s closest allies in the INDOPACOM Theater. The Republic of Korea is one of the major political and economic powers in East Asia and the Western Pacific and a key partner of the United States in ensuring peace and stability in the region. It is vital to U.S. national interests to assist the Republic of Korea in developing and maintaining a strong and ready self-defense capability.

The proposed sale will improve the Republic of Korea's capability to meet current and future threats by increasing its interoperability with U.S. Air Force and other coalition forces through an improved datalink and Mode 5 IFF, producing a more effective Alliance for its F-16 fleet. The Republic of Korea will have no difficulty absorbing this upgrade into its armed forces.

The proposed sale of this equipment and support will not alter the basic military balance in the region.

The prime contractor will be Lockheed Martin Corporation, Bethesda, MD. There are no known offset agreements proposed in connection with this potential sale. Any offset agreement will be defined in negotiations between the Purchaser and the prime contractor.

Implementation of this proposed sale will not require the assignment of additional U.S. Government and/or contractor representatives to Republic of Korea above the current four (4) incountry contractor representatives.

There will be no adverse impact on U.S. defense readiness as a result of this proposed sale.

Transmittal No. 20-15

Notice of Proposed Issuance of Letter of Offer Pursuant to Section 36(b)(1) of the Arms Export Control Act

Annex

Item No. vii

(vii) Sensitivity of Technology:

1. The AN/APX-126 Advanced Identification Friend or Foe (AIFF) is a system capable of transmitting and interrogating Mode 5. It is UNCLASSIFIED unless/until Mode 4 and/or Mode 5 operational evaluator parameters are loaded into the equipment. Classified elements of the IFF system include software object code, operating characteristics, parameters, and technical data. Mode 4 and Mode 5 anti-jam performance specifications/data, software source code, algorithms, and tempest plans or reports will not be offered, released, discussed or demonstrated.

2. The KY-58M is a lightweight terminal for secure voice and data communications. The KY-58M provides wideband/ narrowband half duplex communication. The KY-58M provides flexible interface capability. Operating in tactical ground, marine and airborne applications, the KY-58M enables secure communication with a broad range of radio and satellite equipment.

3. The AN/ARC-238 radio with HAVE QUICK II/SATURN is a voice communications radio system and considered UNCLASSIFIED without HAVE QUICK II/SATURN. HAVE QUICK II/SATURN employs cryptographic technology that is classified SECRET. Classified elements include operating characteristics, parameters, technical data, and keying material.

4. Joint Mission Planning System (JMPS) is a multi-platform PC based mission planning system. JMPS hardware is UNCLASSIFIED but the software is classified up to SECRET.

5. If a technologically advanced adversary were to obtain knowledge of the specific hardware and software elements, the information could be used to develop countermeasures that might reduce weapon system effectiveness or be used in the development of a system with similar or advanced capabilities.

6. A determination has been made that the Republic of Korea can provide substantially the same degree of protection for the sensitive technology being released as the U.S. Government. This sale is necessary in furtherance of the U.S. foreign policy and national security objectives outlined in the Policy Justification.

7. All defense articles and services listed in this transmittal have been authorized for release and export to the Republic of Korea.

[FR Doc. 2020-08076 Filed 4-16-20; 8:45 am]

BILLING CODE 5001-06-P